DEPARTMENT OF THE INTERIOR

National Park Service

[NPS-PWR-KAHO-19609; PPPWKAHOS0, PPMPSPD1Z.00000]

Cancellation of November 6, 2015, Meeting of the Na Hoa Pili O Kaloko-Honokohau National Historical Advisory Commission

AGENCY: National Park Service, Interior.

ACTION: Cancellation of meeting.

SUMMARY: In accordance with the Federal Advisory Committee Act (5 U.S.C. Appendix 1-16), notice is hereby given that the November 6, 2015, meeting of the Na Hoa Pili O Kaloko-Honokohau (The Friends of Kaloko-Honokohau) (Commission), an advisory commission for Kaloko-Honokohau National Historical Park (Park) previously announced in the Federal Register, Vol. 79, December 22, 2014, pp. 76365, is cancelled.

FOR FURTHER INFORMATION CONTACT: Jeff Zimpfer, Environmental Protection Specialist, Kaloko-Honoko-Honokohau National Historical Park, 73-4786 Kanalani St., #14, Kailua Kona, HI 96740, at (808) 329-6881, ext. 1500, or email jeff_zimpfer@nps.gov.

SUPPLEMENTARY INFORMATION: The Park was established by 16 U.S.C. 396d in November 1978. The Advisory Commission was established by section 396d(f) of that same law. The Commission was re-established by section 7401 of Public Law 111-11, the Omnibus Public Land Management Act of 2009, enacted March 30, 2009. The Commission's current termination date is December 31, 2018.

The purpose of the Commission is to advise the Director of the National Park Service with respect to the historical, archeological, cultural, and interpretive programs of the Park. The Commission is to afford particular emphasis to the quality of traditional native Hawaiian cultural practices demonstrated in the Park.

Dated: October 27, 2015.
Alma Ripps,
Chief, Office of Policy.

[FR Doc. 2015-27961 Filed 11-2-15; 8:45 am]

BILLING CODE 4310-EE-P